EQUAL EMPLOYMENT OPPORTUNITY COMMMISSION

Sunshine Act Notice

DATE AND TIME: Monday, November 2, 2020, 1 p.m. Eastern Time.

PLACE: Because of the COVID-19 pandemic, the meeting will be held as an audio-only conference.

STATUS: The meeting will be open to the public.

MATTERS TO BE CONSIDERED: The following item will be considered at the meeting:

Memorandum of Understanding among the U.S. Department of Labor, the Equal Employment Opportunity Commission, and the U.S. Department of Justice

Note: (In addition to publishing notices on EEOC Commission meetings in the Federal Register, the Commission also provides information about Commission meetings on its Website, www.eeoc.gov., and provides a recorded announcement a week in advance on future Commission sessions.)

Please telephone (202) 663-7100 (voice) or email commissionmeetingcomments@eeoc.gov at any time for information on this meeting.

CONTACT PERSON FOR MORE INFORMATION: Bernadette B. Wilson, Executive Officer on (202) 663-4077.

Raymond L. Peeler,
Assistant Legal Counsel, Office of Legal Counsel.

[FR Doc. 2020-24036 Filed 10-27-20; 11:15 am]

BILLING CODE 6570-01-P